FEDERAL COMMUNICATIONS COMMISSION

[OMB 3060-1181]

Information Collection Being Reviewed by the Federal Communications Commission Under Delegated Authority

AGENCY: Federal Communications Commission.

ACTION: Notice and request for comments.

SUMMARY: As part of its continuing effort to reduce paperwork burdens, and as required by the Paperwork Reduction Act (PRA) of 1995 (44 U.S.C. 3501-3520), the Federal Communications Commission (FCC or Commission) invites the general public and other Federal agencies to take this opportunity to comment on the following information collections. Comments are requested concerning: Whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees.

The FCC may not conduct or sponsor a collection of information unless it displays a currently valid OMB control number. No person shall be subject to any penalty for failing to comply with a collection of information subject to the PRA that does not display a valid OMB control number.

DATES: Written PRA comments should be submitted on or before June 14, 2016. If you anticipate that you will be submitting comments, but find it difficult to do so within the period of time allowed by this notice, you should advise the contact listed below as soon as possible.

ADDRESSES: Direct all PRA comments to Nicole Ongele, FCC, via email to PRA@fcc.gov and to Nicole.Ongele@fcc.gov.

FOR FURTHER INFORMATION CONTACT: For additional information about the information collection, contact Nicole Ongele at (202) 418-2991.

SUPPLEMENTARY INFORMATION: OMB Control Number: 3060-1181.

Title: Study Area Boundary Data Reporting in Esri Shapefile Format, DA 12-1777 and DA 13-282.

Form Number: N/A.

Type of Review: Extension of a currently approved collection.

Respondents: Business or other for-profit entities and state, local or tribal government.

Number of Respondents: 747 respondents; 757 responses.

Estimated Time per Response: 26 hours for submitting updates; less than 1 hour for recertification.

Frequency of Response: On occasion and biennially reporting requirements.

Obligation to Respond: Mandatory. Statutory authority for this information collection is contained in 47 U.S.C. 254(b) of the Communications Act of 1934, as amended.

Total Annual Burden: 171 hours.

Total Annual Cost: $3,977.

Privacy Impact Assessment: No impact(s).

Nature and Extent of Confidentiality: No questions of a confidential nature are asked.

Needs and Uses: The Commission uses the study area boundary data collected for this information collection to implement certain universal service reforms. The Universal Service Fund supports the deployment of voice and broadband-capable infrastructure in rural, high cost areas. High-cost support is granted to a carrier based on the characteristics of its “study area,” the geographic area served by an incumbent local exchange carrier within a state. Therefore, complete and accurate study area boundary data are essential for calculating a carrier's costs and expenses, which in turn determine the amount of support that carrier can receive to serve high-cost areas. Initial study area boundaries were submitted in 2013. These maps were submitted via a secure Internet-browser web interface developed and maintained by the Commission. If a study area boundary changes, filers are required to submit, via this interface, revised boundary data incorporating such changes by March 15 of the year following the change. In addition, all filers are required to recertify their study area boundaries every two years.

Federal Communications Commission.
Marlene H. Dortch,
Secretary.

[FR Doc. 2016-08673 Filed 4-14-16; 8:45 am]

BILLING CODE 6712-01-P